DEPARTMENT OF THE INTERIOR

Fish and Wildlife Service

Notice of Issuance of Permit for Marine Mammals

On July 3, 2001, a notice was published in the Federal Register (66 FR 35265), that an application had been filed with the Fish and Wildlife Service by Charles W. Helscel for a permit (PRT-044695) to import one polar bear (Ursus maritimus), taken from the Northern Beaufort Sea population, Canada for personal use.

Notice is hereby given that on August 20, 2001, as authorized by the provisions of the Marine Mammal Protection Act of 1972, as amended (16 U.S.C. 1361 et seq.) the Fish and Wildlife Service authorized the requested permit subject to certain conditions set forth therein.

On August 7, 2001, a notice was published in the Federal Register (66 FR 41260), that an application had been filed with the Fish and Wildlife Service by Fish and Wildlife Service/Marine Mammal Management, Anchorage, AK for a permit (PRT-046081) to take (harass) polar bear (Ursus maritimus), for the purpose of scientific research while conducting aerial population surveys.

Notice is hereby given that on August 21, 2001 as authorized by the provisions of the Marine Mammal Protection Act of 1972, as amended (16 U.S.C. 1361 et seq.) the Fish and Wildlife Service authorized the requested permit subject to certain conditions set forth therein. This permit was issued prior to the close of the formal comment period, as authorized by 16 U.S.C. 1374 Section 104 (c)(3)(A), after it was determined that a delay in issuing the permit could result in the loss of unique research opportunities.

Documents and other information submitted for these applications are available for review by any party who submits a written request to the U.S. Fish and Wildlife Service, Division of Management Authority, 4401 North Fairfax Drive, Room 700, Arlington, Virginia 22203, telephone (703) 358-2104 or fax (703) 358-2281.

Dated: September 7, 2001.
Michael S. Moore,
Senior Permit Biologist, Branch of Permits, Division of Management Authority.

[FR Doc. 01-23661 Filed 9-20-01; 8:45 am]

BILLING CODE 4310-55-P